ENVIRONMENTAL PROTECTION AGENCY

[FRL OP-OFA-026]

Environmental Impact Statements; Notice of Availability

Responsible Agency: Office of Federal Activities, General Information 202-564-5632 or https://www.epa.gov/nepa.

Weekly receipt of Environmental Impact Statements (EIS)

Filed July 11, 2022 10 a.m. EST Through July 18, 2022 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20220100, Final, NRC, NM, Holtec International's License Application for a Consolidated Interim Storage Facility for Spent Nuclear Fuel in Lea County, New Mexico, Review Period Ends: 08/22/2022, Contact: Jill Caverly 301-415-7674.

EIS No. 20220101, Draft, BLM, NV, Gibellini Vanadium Mine Project, Comment Period Ends: 09/06/2022, Contact: Scott Distel 775-635-4093.

EIS No. 20220102, Third Final Supplemental, USACE, CA, American River Watershed, California Folsom Dam Raise Project: Updated Designs, Review Period Ends: 08/22/2022, Contact: Kimberly Watts 916-557-7770.

EIS No. 20220103, Final Supplement, USACE, LA, South Central Coast Louisiana Final Supplemental Integrated Feasibility Study with Environmental Impact Statement, Review Period Ends: 08/22/2022, Contact: Joe Jordan 309-794-5791.

Dated: July 19, 2022.
Cindy S. Barger,
Director, NEPA Compliance Division, Office of Federal Activities.

[FR Doc. 2022-15701 Filed 7-21-22; 8:45 am]

BILLING CODE 6560-50-P